DEPARTMENT OF TRANSPORTATION

Federal Aviation Administration

Research, Engineering and Development (R,E&D) Advisory Committee

Pursuant to section 10(A)(2) of the Federal Advisory Committee Act (Public Law 92-463; 5 U.S.C. App. 2), notice is hereby given of a meeting of the FAA Research, Engineering and Development (R,E&D) Advisory Committee on Tuesday, September 12, and Wednesday, September 13. The meeting will be held at the Holiday Inn Rosslyn Westpart Hotel, 1900 North Fort Myer Drive, Arlington, Virginia.

On Tuesday, September 12 the meeting will begin at 9:00 a.m. and end at 5:00 p.m. On Wednesday, September 13 the meeting will begin at 8:30 a.m. and end at 12:00 noon.

The meeting agenda will include receiving guidance from the Committee for FAA's fiscal year 2003 research and development investments in the areas of air traffic services, airports, aircraft safety, security, human factors and environment and energy.

Attendance is open to the interested public but limited to space available. Persons wishing to attend the meeting or obtain information should contact Lee Olson at the Federal Aviation Administration, AAR-200, 800 Independence Avenue, SW, Washington, DC 20591 (202) 267-7358. Please inform us if you are in need of assistance or require a reasonable accommodation for this meeting.

Members of the public may present a written statement to the Committee at any time.

Issued in Washington, DC on August 16, 2000.
Hugh McLaurin,
Program Director, Office of Aviation Research.

[FR Doc. 00-21496 Filed 8-22-00; 8:45 am]

BILLING CODE 4910-13-U